DEPARTMENT OF HOMELAND SECURITY

Federal Emergency Management Agency

[Docket ID FEMA-2009-0008]

National Flood Insurance Program (NFIP); Assistance to Private Sector Property Insurers, Availability of FY2010 Arrangement

AGENCY: Federal Emergency Management Agency, DHS.

ACTION: Notice.

SUMMARY: Each year the Federal Emergency Management Agency (FEMA) is required by the Write-Your-Own (WYO) program Financial Assistance/Subsidy Arrangement (Arrangement) to notify the private insurance companies (Companies) and to make available to the Companies the terms for subscription or re-subscription to the Arrangement. In keeping with that requirement, this notice provides the terms to the Companies to subscribe or re-subscribe to the Arrangement.

FOR FURTHER INFORMATION CONTACT: Edward L. Connor, DHS/FEMA, 1800 South Bell Street, Room 720, Arlington, VA 20598-3020, 202-646-3429 (phone), 202-646-3445 (facsimile), or Edward.Connor@dhs.gov (e-mail).

SUPPLEMENTARY INFORMATION: Under the Write-Your-Own (WYO) program Financial Assistance/Subsidy Arrangement (Arrangement), approximately 90 private sector property insurers issue flood insurance policies and adjust flood insurance claims under their own names based on an Arrangement with the Federal Insurance Administration (FIA) published at 44 CFR part 62, appendix A. The WYO insurers receive an expense allowance and remit the remaining premium to the Federal Government. The Federal Government also pays WYO insurers for flood losses and pays loss adjustment expenses based on a fee schedule. In addition, under certain circumstances reimbursement for litigation costs, including court costs, attorney fees, judgments, and settlements, are paid by FIA based on documentation submitted by the WYO insurers. The complete Arrangement is published in 44 CFR part 62, appendix A. Each year FEMA is required to publish in the Federal Register and make available to the Companies the terms for subscription or re-subscription to the Arrangement.

Since last year there have been no substantive changes to the Arrangement.

During August 2009, FEMA will send a copy of the offer for the FY2010 Arrangement, together with related materials and submission instructions, to all private insurance companies participating under the current FY2009 Arrangement. Any private insurance company not currently participating in the WYO Program but wishing to consider FEMA's offer for FY2010 may request a copy by writing: DHS/FEMA, Mitigation Directorate, Attn: Edward L. Connor, WYO Program, 1800 South Bell Street, Room 720, Arlington, VA 20598-3020, or contact Edward Connor at 202-646-3445 (facsimile), or Edward.Connor@dhs.gov (e-mail).

Dated: August 13, 2009.
Edward L. Connor,
Acting Federal Insurance Administrator, National Flood Insurance Program, Federal Emergency Management Agency, Department of Homeland Security.

[FR Doc. E9-19835 Filed 8-18-09; 8:45 am]

BILLING CODE 9111-52-P